DEPARTMENT OF HEALTH AND HUMAN SERVICES

Administration for Children and Families

[CFDA Number: 93.576]

Announcement of the Award of 38 Single-Source Low-Cost Extension Supplement Grants Under the Refugee School Impact Grant Program

AGENCY: Office of Refugee Resettlement (ORR), Administration for Children and Families (ACF), U.S. Department of Health and Human Services (HHS).

ACTION: Notice of award of 38 single-source low-cost extension supplement grants under the Refugee School Impact Grant Program.

SUMMARY: ACF, ORR announces the award of 38 single-source low-cost extension supplement grants for a total of 2,500,000 under the Refugee School Impact Grant Program.

State | Grantee | Amount
Alaska | Catholic Social Services | $25,736
Arizona | Arizona Department of Social Security | 102,972
California | California Department of Social Services | 171,426
Colorado | Colorado Department of Human Services | 67,332
Connecticut | Connecticut Department of Social Services | 25,736
Florida | Florida Department of Children and Families | 171,426
Georgia | Georgia Department of Human Services | 108,709
Idaho | Jannus Inc. | 32,098
Illinois | Illinois Department of Human Services | 77,224
Indiana | Indiana Division of Disability & Rehabilitation | 49,713
Iowa | Iowa Department of Human Services | 25,736
Kentucky | Catholic Charities of Louisville | 67,784
Maine | Maine Department of Health and Human Services | 25,736
Maryland | Maryland Department of Human Resources | 51,296
Massachusetts | Massachusetts Office for Refugees and Immigrants | 69,049
Michigan | Michigan Department of Human Services | 116,658
Minnesota | Minnesota Department of Human Services | 86,304
Missouri | Missouri Department of Social Services | 42,081
Nebraska | Nebraska Dept. of Health and Human Services | 30,969
Nevada | Clark County School District | 25,736
New Hampshire | NH. Dept. of Health & Human Services | 25,736
New Jersey | New Jersey Department of Human Services | 25,736
New Mexico | New Mexico Human Services Department | 25,736
New York | NY Office of Temporary and Disability Assistance | 171,426
North Carolina | North Caroline Dept. of Health & Human Services | 84,000
North Dakota | North Dakota Department of Public Instruction | 25,736
Ohio | Ohio Department of Job and Family Services | 73,746
Oregon | Lutheran Community Services Northwest | 39,822
Pennsylvania | Commonwealth of Pennsylvania | 100,488
Rhode Island | Rhode Island Department of Human Services | 25,736
South Dakota | Lutheran Social Services of South Dakota | 25,736
Tennessee | Catholic Charities of Tennessee, Inc. | 56,671
Texas | Texas Health and Human Services Commission | 171,426
Utah | Utah Department of Workforce Services | 43,797
Vermont | Vermont Agency of Human Services | 25,736
Virginia | Virginia Department of Social Services | 66,428
Washington | WA State Department of Social & Health Services | 107,083
Wisconsin | Wisconsin Department of Public Instruction | 31,240
Total |  | 2,500,000

ORR provides 28 States and ten Wilson-Fish agencies with Refugee School Impact funding to undertake a comprehensive statewide approach supporting local school systems that are impacted by significant numbers of newly arrived refugee children. As currently awarded, the FY14-16 Refugee School Impact funding period concludes on August 14, 2016. Beginning in FFY17, ORR will award Refugee School Impact funding as a formula set-aside within the Refugee Social Services funding awarded to all States and Wilson-Fish programs coordinating refugee resettlement. This change in timing for Refugee School Impact funding will create a gap in Refugee School Impact program services between August 15, 2016 and October 1, 2016. The low-cost extensions will support refugee access to services critical to refugee student success at the beginning of the school year, when such services are greatest and most urgent.

DATES: Low-cost extension supplement grants will support activities from August 15, 2016, through September 30, 2016.

FOR FURTHER INFORMATION CONTACT: Carl Rubenstein, Director, Division of Refugee Assistance, Office of Refugee Resettlement, 330 C Street SW., Washington, DC 20201. Email: carl.rubenstein@acf.hhs.gov.

Statutory Authority: This program is authorized by Section 412(c)(1)(A)(iii) of the Immigration and Nationality Act (INA), 8 U.S.C. 1522(c)(1)(A)(iii).

Christopher Beach,
Senior Grants Policy Specialist, Office of Administration, Office of Financial Services, Division of Grants Policy.

[FR Doc. 2016-25496 Filed 10-20-16; 8:45 am]

BILLING CODE 4184-01-P